DEPARTMENT OF COMMERCE

International Trade Administration

[C-533-870]

Certain New Pneumatic Off-the-Road Tires From India: Final Results of Countervailing Duty Administrative Review; 2022

AGENCY: Enforcement and Compliance, International Trade Administration, Department of Commerce.

SUMMARY: The U.S. Department of Commerce (Commerce) determines that countervailable subsidies are being provided to producers/exporters of certain new pneumatic off-the-road tires (OTR Tires), from India during the period of review (POR) January 1, 2022, through December 31, 2022.

DATES: Applicable October 22, 2024.

FOR FURTHER INFORMATION CONTACT: Mark Hoadley, AD/CVD Operations, Office VII, Enforcement and Compliance, International Trade Administration, U.S. Department of Commerce, 1401 Constitution Avenue NW, Washington, DC 20230; telephone: (202) 482-3148.

SUPPLEMENTARY INFORMATION:

Background

On April 5, 2024, Commerce published the preliminary results of this administrative review.¹ On July 22, 2024, Commerce tolled certain deadlines in this administrative proceeding by seven days.² On August 6, 2024, we extended the time limit for these final results to October 9, 2024.³ For a description of the events that occurred since the Preliminary Results, see the Issues and Decision Memorandum.⁴

¹ See Certain New Pneumatic Off-The-Road Tires from India: Preliminary Results of Countervailing Duty Administrative Review; 2022, 89 FR 23969 (April 5, 2024) (Preliminary Results).

² See Memorandum, “Tolling of Deadlines for Antidumping and Countervailing Duty Proceedings,” dated July 22, 2024.

³ See Memorandum, “Extension of Deadline for Final Results of Countervailing Duty Administrative Review,” dated August 6, 2024.

⁴ See Memorandum, “Issues and Decision Memorandum for the Final Results in the Countervailing Duty Administrative Review of Off-the-Road Tires from India; 2022,” dated concurrently with, and hereby adopted by, this notice (Issues and Decision Memorandum).

Scope of the Order ⁵

⁵ See Certain New Pneumatic Off-the-Road Tires from India and Sri Lanka: Amended Final Affirmative Countervailing Duty Determination for India and Countervailing Duty Orders, 82 FR 12556 (March 6, 2017) (Order).

The products covered by the order are OTR Tires from India. For a full description of the scope of the Order, see the Issues and Decision Memorandum.

Analysis of Comments Received

All issues raised in the parties' briefs are addressed in the Issues and Decision Memorandum. A list of the issues addressed is attached to this notice at Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties and record information, we made certain changes from the Preliminary Results regarding the subsidy calculations for ATC Tires Private Limited (ATC) and Balkrishna Industries Ltd. (BKT). These changes are explained in the Issues and Decision Memorandum.

Methodology

Commerce conducted this administrative review in accordance with section 751(a)(1)(A) of the Tariff Act of 1930, as amended (the Act). For each subsidy program found countervailable, Commerce finds that there is a subsidy, i.e., a government-provided financial contribution that gives rise to a benefit to the recipient, and that the subsidy is specific.⁶ For a description of the methodology underlying all of Commerce's conclusions, including any determination that relied upon the use of adverse facts available pursuant to section 776(a) and (b) of the Act, see the Issues and Decision Memorandum.

⁶ See sections 771(5)(B) and (D) of the Act regarding financial contribution; section 771(5)(E) of the Act regarding benefit; and section 771(5A) of the Act regarding specificity.

Companies Not Selected for Individual Review

The Act and Commerce's regulations do not directly address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies that were not selected for individual examination in an administrative review. Section 777A(e)(2) of the Act provides that “the individual countervailable subsidy rates determined under subparagraph (A) shall be used to determine the all-others rate under section 705(c)(5) {of the Act}.” Under section 705(c)(5)(A) of the Act, the all-others rate is normally “an amount equal to the weighted average of the countervailable subsidy rates established for exporters and producers individually investigated, excluding any zero or de minimis countervailable subsidy rates, and any rates determined entirely {on the basis of facts available}.”

Accordingly, to determine the rate for companies not selected for individual examination, Commerce's practice is to weight average the net subsidy rates for the selected mandatory respondents, excluding rates that are zero, de minimis, or based entirely on facts available.⁷ We determine that ATC received countervailable subsidies that are above de minimis and are not based entirely on facts available. Therefore, we determine to apply the net subsidy rates calculated for ATC. The companies for which a review was requested, which were not selected as mandatory respondents or found to be cross-owned with a mandatory respondent, are listed in Appendix II.

⁷ See, e.g., Certain Pasta from Italy: Final Results of the 13th (2008) Countervailing Duty Administrative Review, 75 FR 37386, 37387 (June 29, 2010).

Final Results of Review

We determine that the following net countervailable subsidy rates exist for the period January 1, 2022, through December 31, 2022:

⁸ See Appendix II of this notice for a list of all companies subject to this review that were not selected for individual examination and to which Commerce has assigned the non-examined company rate.

Producer/exporter | Subsidy rate (percent ad valorem)
ATC Tires Private Limited | 1.70
Balkrishna Industries Ltd | * 0.34
Non-Selected Companies Under Review ⁸ | 1.70
* De minimis.

Disclosure

Commerce intends to disclose the calculations and analysis performed for these final results of review within five days of the date of publication of this notice in the Federal Register, in accordance with 19 CFR 351.224(b).

Assessment Rates

Pursuant to sections 751(a)(1) and (a)(2)(C) of the Act and 19 CFR 351.212(b), Commerce shall determine, and CBP shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) and (a)(2)(C) of the Act, Commerce also intends to instruct CBP to collect cash deposits of estimated countervailing duties in the amounts shown for the companies listed above on shipments of subject merchandise entered, or withdrawn from warehouse, for consumption on or after the date of publication of the final results of this administrative review. Because the rate calculated for BKT is de minimis, no cash deposit will be required on shipments of the subject merchandise entered or withdrawn from warehouse, for consumption on or after the date of publication of the final results of this review. For all non-reviewed firms, we will instruct CBP to continue to collect cash deposits of estimated countervailing duties at the all-others rate or the most recent company-specific rate applicable to the company, as appropriate. These cash deposit requirements, effective upon publication of these final results, shall remain in effect until further notice.

Administrative Protective Order

This notice also serves as a final reminder to parties subject to the administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing the final results and publishing this notice in accordance with sections 751(a)(1) and 777(i)(1) of the Act, and 19 CFR 351.221(b)(5).

Dated: October 9, 2024.
Ryan Majerus,
Deputy Assistant Secretary for Policy and Negotiations, performing the non-exclusive functions and duties of the Assistant Secretary for Enforcement and Compliance.

Appendix I—List of Topics Discussed in the Issues and Decision Memorandum

I. Summary

II. Background

III. Scope of the Order

IV. Changes Since the Preliminary Results

V. Subsidies Valuation Information

VI. Analysis of Programs

VII. Discussion of the Issues

Comment 1: ATC's Electricity Duty Exemption under the Gujarat Electricity Act, 1958

Comment 2: ATC's Import and Local Duty, Value-Added Tax, and Central Sales Tax (CST) Exemptions Under the Export-Oriented Units (EOU) and Special Economic Zones (SEZ) Programs

Comment 3: ATC's SEZ Income Tax Exemption Under Section 10AA of the Income Tax Act

Comment 4: BKT's Import Duty Exemptions Under the Export Promotion of Capital Goods Scheme

Comment 5: BKT's Import Duty Exemptions Under the Advance Authorization Scheme (AAS)

Comment 6: ATC's Import Duty Exemptions Under the AAS

VIII. Recommendation

Appendix II—Non-Examined Companies Under Review

1. Aakriti Manufacturing Pvt. Ltd.

2. Apollo Tyres Ltd.

3. Asian Tire Factory Limited.

4. Asiatic Tradelinks Private Limited.

5. Cavendish Industries Ltd.

6. Ceat Ltd.

7. Celite Tyre Corporation.

8. Emerald Resilient Tyre Manufacturer.

9. Forech India Private Limited.

10. HRI Tires India.

11. Innovative Tyres & Tubes Limited.

12. JK Tyre & Industries Ltd.

13. John Deere India Pvt. Ltd.

14. K.R.M. Tyres.

15. Mahansaria Tyres Private Limited.

16. MRF Limited.

17. MRL Tyres Limited (Malhotra Rubbers Ltd.).

18. Neosym Industry Limited.

19. OTR Laminated Tyres (I) Pvt. Ltd.

20. Royal Tyres Private Limited.

21. Rubberman Enterprises Pvt. Ltd.

22. Speedways Rubber Company.

23. Sun Tyre And Wheel Systems.

24. Sundaram Industries Private Limited.

25. Superking Manufacturers (Tyre) Pvt., Ltd.

26. TVS Srichakra Limited.

27. Ultra Mile.

[FR Doc. 2024-24430 Filed 10-21-24; 8:45 am]

BILLING CODE 3510-DS-P